NUCLEAR REGULATORY COMMISSION

[Docket Nos. 50-341, 50-250, and 50-251; NRC-2020-0110]

Issuance of Multiple Exemptions in Response to COVID-19 Public Health Emergency

AGENCY: Nuclear Regulatory Commission.

ACTION: Exemptions; issuance.

SUMMARY: The U.S. Nuclear Regulatory Commission (NRC) issued two exemptions in response to requests from two licensees for relief due to the coronavirus 2019 disease (COVID-19) public health emergency (PHE). The exemptions afford these licensees temporary relief from certain requirements under NRC regulations. The NRC is issuing a single notice to announce the issuance of the exemptions.

DATES: During the period from December 9, 2021, to December 30, 2021, the NRC granted two exemptions in response to requests submitted by two licensees from December 6, 2021, to December 30, 2021.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: James Danna, Office of Nuclear Reactor Regulation, U.S. Nuclear Regulatory Commission, Washington, DC 20555-0001; telephone: 301-415-7422, email: James.Danna@nc.gov.

SUPPLEMENTARY INFORMATION:

I. Introduction

During the period from December 9, 2021, to December 30, 2021, the NRC granted two exemptions in response to requests submitted by two licensees from December 6, 2021, to December 30, 2021. These exemptions temporarily allow the licensees to deviate from certain requirements of chapter 1 of title 10 of the Code of Federal Regulations (10 CFR), part 26, “Fitness for Duty Programs,” section 26.205, “Work hours.”

The exemptions from certain requirements of 10 CFR part 26 for DTE Electric Company (for Fermi, Unit 2), and Florida Power & Light Company (for Turkey Point Nuclear Generating, Units 3 and 4) afford these licensees temporary relief from the work-hour control requirements under 10 CFR 26.205(d)(1) through (d)(7). The exemptions from 10 CFR 26.205(d)(1) through (d)(7) ensure that the control of work hours and management of worker fatigue does not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour controls of 10 CFR 26.205(d)(1) through (d)(7). These licensees have committed to effecting site-specific administrative controls for COVID-19 PHE fatigue-management for personnel specified in 10 CFR 26.4(a).

The tables in this notice provide transparency regarding the number and type of exemptions the NRC has issued. Additionally, the NRC publishes tables of approved regulatory actions related to the COVID-19 PHE on its public website at https://www.nrc.gov/about-nrc/covid-19/reactors/licensing-actions.html.

II. Availability of Documents

The tables in this notice provide the facility name, docket number, document description, and ADAMS accession number for each exemption issued. Additional details on each exemption issued, including the exemption request submitted by the respective licensee and the NRC's decision, are provided in each exemption approval listed in the tables in this notice. For additional directions on accessing information in ADAMS, see the ADDRESSES section of this document.

Fermi, Unit 2—Docket No. 50-341
Document description | ADAMS accession No.
Fermi, Unit 2—Work Hour Limits Exemption Request due to COVID-19, dated December 6, 2021 | ML21340A030
Fermi, Unit 2—Exemption from Specific Requirements of 10 CFR part 26 (EPID L-2020-LLE-0053 [COVID-19]), dated December 9, 2021 | ML21340A245

Turkey Point Nuclear Plant, Units 3 and 4—Docket Nos. 50-250 and 50-251
Document description | ADAMS accession No.
Turkey Point Nuclear Plant, Units 3 and 4—COVID-19 Related Request for Exemption from part 26 Work Hours Requirements, dated December 30, 2021 | ML21364A050
Turkey Point Nuclear Plant Units 3 and 4—Exemption from Specific Requirements of 10 CFR part 26, “Fitness for Duty Programs” (EPID L-2021-LLE-0058 [COVID-19]), dated December 30, 2021 | ML21364A052

Dated: January 20, 2022.
For the Nuclear Regulatory Commission.
James G. Danna,
Chief, Plant Licensing Branch I, Division of Operating Reactor Licensing, Office of Nuclear Reactor Regulation.

[FR Doc. 2022-01373 Filed 1-24-22; 8:45 am]

BILLING CODE 7590-01-P